DEPARTMENT OF THE INTERIOR

Bureau of Land Management

[LLNVB02000.L19900000.EX0000.23X; MO: 4500167767]

Notice of Intent To Prepare an Environmental Impact Statement for Ioneer Rhyolite Ridge LLC's Proposed Rhyolite Ridge Lithium-Boron Mine Project, Esmeralda County, NV

AGENCY: Bureau of Land Management, Interior.

ACTION: Notice of intent.

SUMMARY: In compliance with the National Environmental Policy Act of 1969, as amended (NEPA), and the Federal Land Policy and Management Act of 1976 (FLPMA), as amended, the Bureau of Land Management (BLM) Tonopah Field Office, Tonopah, Nevada, intends to prepare an Environmental Impact Statement (EIS) to analyze the potential environmental impacts of authorizing the proposed Ioneer Rhyolite Ridge LLC (Ioneer) Rhyolite Ridge Lithium-Boron Project (Project) in Esmeralda County, Nevada. This notice announces the beginning of the scoping process to solicit public comments and identify issues and alternatives; it also serves to initiate public consultation, as required, under the National Historic Preservation Act (NHPA).

DATES: This notice initiates the public scoping process for the EIS, which will run through January 19, 2023. Scoping comments may be submitted in writing until January 19, 2023. The date(s) and location(s) of the scoping meetings will be announced at least 15 days in advance through local media and newspapers and on the BLM website at: https://www.blm.gov/office/tonopah-field-office and the Project's ePlanning website at https://eplanning.blm.gov/eplanning-ui/project/2012309/510. In order to be considered during the preparation of the Draft EIS, all scoping comments must be received prior to the close of the 30-day scoping period or 15 days after the last public meeting, whichever is later. The BLM will provide additional opportunities for public participation upon publication of the Draft EIS.

ADDRESSES: You may submit scoping comments related to the proposed Rhyolite Ridge Lithium-Boron Mine Project by any of the following methods:

• Website: https://eplanning.blm.gov/eplanning-ui/project/2012309/510.

• Email: BLM_NV_BMDO_TFO_NONRENEWABLE@blm.gov.

• Fax: (775) 635-4034.

• Mail: BLM Battle Mountain District Office, Attn: Rhyolite Ridge Project, 50 Bastian Road, Battle Mountain, NV 89820.

Documents pertinent to this proposal may be examined at the Battle Mountain District Office and the Tonopah Field Office during regular business hours.

FOR FURTHER INFORMATION CONTACT: Scott Distel, Project Manager, telephone: (775) 635-4093; address: 50 Bastian Road, Battle Mountain, Nevada, 89820; email: sdistel@blm.gov. Contact Mr. Distel if you wish to add your name to our mailing list.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The BLM's purpose for the action is to consider Ioneer's proposed Plan of Operations and to analyze the potential environmental effects associated with the Proposed Action as described in the Plan of Operations, as well as feasible alternatives to the Proposed Action. The BLM's need to consider the action is established by the BLM's responsibilities under section 302 of the FLPMA, 43 U.S.C. 1732, and the BLM Surface Management Regulations at 43 CFR part 3809. The BLM needs to make sure that the operations under the General Mining Law of 1872 will not cause unnecessary or undue degradation of the public lands. 43 U.S.C. 1732(b).

Based on the Proposed Action, Ioneer is proposing to construct, operate, close, and reclaim a new lithium-boron mine in the Silver Peak Range in Esmeralda County, Nevada, approximately 40 air miles southwest of Tonopah, Nevada, and 13 air miles northeast of Dyer, Nevada. The Project Area encompasses approximately 7,166 acres. The proposed Project facilities associated with the Proposed Action are expected to disturb approximately 2,296 acres within the 7,166 Project Area, of which 2,272 acres are on public lands managed by the Tonopah Field Office and 24 acres are on private land. The Project Area includes an Operational Area and an Access Road and Infrastructure Corridor. If authorized, the mine would operate 24 hours per day, 365 days per year for approximately 17 years. The work force would be approximately 500 persons for construction and 350 persons for operation. The Proposed Action anticipates that reclamation activities at the end of mining will take approximately six years, with monitoring continuing beyond the 6 years as needed.

The purpose of the public scoping process is to identify relevant issues that will influence the scope of the environmental analysis, including alternatives, and guide the process for developing the EIS. During the public scoping period, the public is requested to identify any potential alternatives to the Proposed Action and provide any information or recommended analyses relevant to the Proposed Action and potential Project alternatives.

The BLM will use and coordinate the NEPA scoping process to help fulfill the public involvement process under the NHPA (54 U.S.C. 306108), as provided in 36 CFR 800.2(d)(3). The information about historic and cultural resources within the area potentially affected by the proposed Project will assist the BLM in identifying and evaluating impacts to such resources in the context of both the NEPA and the NHPA.

The BLM has and will continue to consult with Native American Tribes on a government-to-government basis in accordance with Executive Order 13175 and other policies. Tribal concerns, including impacts on Indian trust assets and potential impacts to cultural resources, will be given due consideration.

Federal, State, and local agencies, along with Tribes and stakeholders who may be interested in or affected by the proposed Project that the BLM is evaluating, are invited to participate in the scoping process and, if eligible, may request or be asked by the BLM to participate in the development of the EIS as a cooperating agency.

Following the completion of the public scoping process and subsequent analyses, the BLM will produce a Draft EIS. The Draft EIS will be made available for a 45-day public review and comment period and is anticipated to be completed by June of 2023 and will include public meetings to discuss the Draft EIS.

Following public input on the Draft EIS, the information received will be incorporated into a Final EIS, which is anticipated to be released for a 30-day public review period in December 2023. The BLM anticipates issuing a decision on this Project in January of 2024.

(Authority: 40 CFR 1501.9.)

Perry B. Wickham,
Field Manager, Tonopah Field Office, Battle Mountain District.

[FR Doc. 2022-27411 Filed 12-19-22; 8:45 am]

BILLING CODE 4310-HC-P